DEPARTMENT OF ENERGY

Federal Energy Regulatory Commission

[Docket No. CP03-8-000]

Regent Resources Ltd.; Notice of Application

November 8, 2002.

Take notice that on October 29, 2002, Regent Resources Ltd., (Regent), 1200, 603-7th Avenue SW., Calgary, Alberta Canada T2P 2T5, filed an application seeking Section 3 authorization and a Presidential Permit pursuant to Executive Order No. 10485, as amended by Executive Order No. 12038, to site, construct, operate and maintain facilities at the United States—Canada border (International Boundary) for the importation of natural gas into the United States from Alberta, Canada, all as more fully set forth in the application on file with the Commission and open to public inspection. This filing may be viewed on the Commission's Web site at http://www.ferc.gov, using the “FERRIS” link. For assistance, contact FERC Online Support at FERCOnlineSupport@ferc.gov or toll-free at (866)208-3676, or for TTY, contact (202)502-8659.

Specifically, Regent proposes to construct and operate a gas meter station at an existing wellsite and a 2300-foot, 4-inch O.D. pipeline (Regent Pipeline) extending directly south of the meter station in the Coutts area of the Province of Alberta. The last 30 foot section of the Regent Pipeline (border crossing) will interconnect with a new 4-inch pipeline (Connector Pipeline) to be constructed in the NW ¼ Section 1, Township 37N, Range 5W in Glacier County, Montana, by Regent Resources Inc., a Montana subsidiary of Regent. The Connector Pipeline will extend from the border crossing in an southeasterly direction for a distance of approximately 19,400 feet and tie in with EnCana Corporation's existing gathering system and processing facility located in Northern Montana.

Regent states that the proposed construction will allow unprocessed gas from existing shut-in wells in the Alberta Province to be imported into the existing U.S. gathering and processing system, thereby providing increased Canadian resource development with accompanying local, state and provincial socio-economics benefits.

Any questions regarding the application should be directed to Shaun Hedges, Operations Manager, Regent Resources Ltd, at (406) 264-0018.

There are two ways to become involved in the Commission's review of this project. First, any person wishing to obtain legal status by becoming a party to the proceedings for this project should, on or before November 29, 2002, file with the Federal Energy Regulatory Commission, 888 First Street, NE., Washington, DC 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. The Commission strongly encourages electronic filings. See, 18 CFR 385.2001(a)(1)(iii) and instructions on the Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-29134 Filed 11-15-02; 8:45 am]

BILLING CODE 6717-01-P